DEPARTMENT OF TRANSPORTATION

Federal Aviation Administration

14 CFR Part 71

[Docket No. FAA-2018-0062; Airspace Docket No. 18-ASO-3]

RIN 2120-AA66

Amendment of Class D and Class E Airspace; Pensacola, FL, and Establishment of Class E Airspace; Milton, FL

AGENCY: Federal Aviation Administration (FAA), DOT.

ACTION: Final rule, correction.

SUMMARY: This action corrects a final rule published in the Federal Register on August 29, 2018, amending Class D airspace and Class E airspace extending upward from 700 feet above the surface, and establishing Class E surface airspace at Choctaw Naval Outlying Field (NOLF), Milton, FL. Additional text was inadvertently omitted from the NOTAM information of Class D airspace and Class E surface airspace for Choctaw NOLF.

DATES: Effective 0901 UTC, January 3, 2019. The Director of the Federal Register approves this incorporation by reference action under title 1 Code of Federal Regulations part 51, subject to the annual revision of FAA Order 7400.11 and publication of conforming amendments.

FOR FURTHER INFORMATION, CONTACT: John Fornito, Operations Support Group, Eastern Service Center, Federal Aviation Administration, 1701 Columbia Avenue, College Park, GA 30337; telephone (404) 305-6364.

SUPPLEMENTARY INFORMATION:

History

The FAA published a final rule in the Federal Register (83 FR 43968, August 29, 2018) for Doc. No. FAA-2018-0062, amending Class D airspace and Class E airspace extending upward from 700 feet or more above the surface, and establishing Class E surface airspace at Choctaw Naval Outlying Field (NOLF), Milton, FL. Subsequent to publication, the FAA found that the NOTAM information listed in the legal description of the airport in Class D airspace and Class E surface airspace omitted text. This action corrects the error.

Class D airspace and Class E airspace designations are published in paragraphs 5000 and 6002, respectively, of FAA Order 7400.11B dated August 3, 2017, and effective September 15, 2017, which was incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Correction to Final Rule

Accordingly, pursuant to the authority delegated to me, in the Federal Register of August 29, 2018 (83 FR 43968) FR Doc. 2018-18644, the amendment of Class D Airspace and Class E Airspace; Pensacola, FL, and Establishment of Class E Airspace; Milton, FL is corrected as follows:

§ 71.1 [Amended]

ASO FL D Milton, FL [Corrected]

On page 43970, column 1, line 10, insert the words “in advance” after the word “established”.

ASO FL E2 Milton, FL [Corrected]

On page 43970, column 1 line 30, insert the words “in advance” after the word “established”.

Issued in College Park, Georgia, on October 2, 2018.
Kenneth Brissenden,
Acting Manager, Operations Support Group, Eastern Service Center, Air Traffic Organization.

[FR Doc. 2018-21884 Filed 10-9-18; 8:45 am]

BILLING CODE 4910-13-P